DEPARTMENT OF HEALTH AND HUMAN SERVICES

Administration for Children and Families

Grant to the National Eligibility Workers Association: Professionals Associated Through Human Services (NEW:PATHS); Office of Family Assistance

AGENCY: Office of Family Assistance, ACF, HHS.

ACTION: Notice to Award a Grant Award.

C.F.D.A Number: 93.086.

SUMMARY: Notice is hereby given that an award is being made to the National Eligibility Workers Association: Professionals Associated Through Human Services of Cavalier, North Dakota, in the amount of $100,000 to develop a best practices handbook for front line social workers. NEW:PATHS is the only national organization dedicated to improving the personal and professional well-being of eligibility professionals and they are uniquely qualified to develop a handbook of best practices. Its members implement Temporary Assistance to Needy Families regulations, network with other eligibility professionals at local, regional, and national conferences and possess exceptional insights concerning Federal programs. NEW:PATHS has the capability of consulting with a national audience and its members are in direct contact with employment agencies to move participants from welfare to work and increase the percentage of families and children living in safe environments.

After the appropriate reviews, it has been determined that this unsolicited proposal qualifies for funding.

The period of this funding will extend from October 1, 2006 through March 31, 2008.

Contact: Paul Maiers, Office of Family Assistance, Administration for Children and Families, 370 L'Enfant Promenade, SW., Washington, DC 20447, Telephone: 202-401-5438, E-mail: paul.maiers@acf.hhs.gov.

Dated: February 17, 2007.
Sidonie Squier,
Director, Office of Family Assistance.

[FR Doc. E7-3415 Filed 2-26-07; 8:45 am]

BILLING CODE 4184-01-P